DEPARTMENT OF THE INTERIOR

National Park Service

[N6426; NPS-WASO-NAGPRA-NPS0040833; PPWOCRADN0-PCU00RP14.R50000]

Notice of Inventory Completion: The Newark Museum of Art, Newark, NJ

AGENCY: National Park Service, Interior.

ACTION: Notice.

SUMMARY: In accordance with the Native American Graves Protection and Repatriation Act (NAGPRA), The Newark Museum of Art has completed an inventory of human remains and associated funerary objects and has determined that there is a cultural affiliation between the human remains and associated funerary objects and Indian Tribes or Native Hawaiian organizations in this notice.

DATES: Repatriation of the human remains and associated funerary objects in this notice may occur on or after September 19, 2025.

ADDRESSES: Send written requests for repatriation of the human remains and associated funerary objects in this notice to Amber Woods Germano, Senior Registrar, The Newark Museum of Art, 49 Washington Street, Newark, NJ 07102, email agermano@newarkmuseumart.org.

SUPPLEMENTARY INFORMATION: This notice is published as part of the National Park Service's administrative responsibilities under NAGPRA. The determinations in this notice are the sole responsibility of The Newark Museum of Art, and additional information on the determinations in this notice, including the results of consultation, can be found in its inventory or related records. The National Park Service is not responsible for the determinations in this notice.

Abstract of Information Available

Human remains representing at least, two individuals have been identified.

A human lower jawbone of unknown age was anonymously donated to the Museum in 1931. According to Museum records, the human remains were removed from the site of the Boonton Dam in Boonton, NJ.

Additionally, a donation of human bone fragments representing at least one individual and 58 associated funerary objects were donated to the Museum by Emily E. Dexter in June of 1926.

The ancestral remains donated by Emily E. Dexter are of unknown age and according to Museum records were taken from “graves at To-wan-da, Pennsylvania.” The 58 associated funerary objects were donated to the Museum by Emily Dexter with the ancestral remains.

The 58 associated funerary objects are: six fragments of clam shells; a flat basalt rock sinker for fishing with notches cut to hold cord, rounded on ends; a flint leaf-shaped arrowhead; a potsherd blackened on both sides and decorated with incised dots forming lines; a potsherd of tan colored clay on one side, black on the other side, with quartz pebbles throughout and a rough linear design on the tan side; 44 shards of pottery; a black wood ring; a bright orange stone fragment; a flat slab of sandstone with parallel sides and curved ends; and a sandstone pestle.

Both Boonton, NJ and Towanda borough in Bradford County, PA are located within Lenape ancestral lands.

The Newark Museum of Art has no record of treating the ancestral remains and associated funerary objects in this inventory with conservation methods involving toxic pesticides or other dangerous substances. However, the Museum has not tested for toxicity, and at the time these individuals and AFOs were accessioned, it was common practice to use poisonous substances for conservation purposes.

Cultural Affiliation

Based on the information available and the results of consultation, cultural affiliation is reasonably identified by the information available about the human remains and associated funerary objects described in this notice.

Determinations

The Newark Museum of Art has determined that:

• The human remains described in this notice represent the physical remains of at least two individuals of Native American ancestry.

• The 58 objects described in this notice are reasonably believed to have been placed intentionally with or near individual human remains at the time of death or later as part of the death rite or ceremony.

• There is a connection between the human remains and associated funerary objects described in this notice and the Delaware Nation, Oklahoma; Delaware Tribe of Indians; and the Stockbridge Munsee Community, Wisconsin.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after September 19, 2025. If competing requests for repatriation are received, The Newark Museum of Art must determine the most appropriate requestor prior to repatriation. Requests for joint repatriation of the human remains and associated funerary objects are considered a single request and not competing requests. The Newark Museum of Art is responsible for sending a copy of this notice to the Indian Tribes and Native Hawaiian organizations identified in this notice.

Authority: Native American Graves Protection and Repatriation Act, 25 U.S.C. 3003, and the implementing regulations, 43 CFR 10.10.

Dated: August 5, 2025.
Melanie O'Brien,
Manager, National NAGPRA Program.

[FR Doc. 2025-15850 Filed 8-19-25; 8:45 am]

BILLING CODE 4312-52-P